DEPARTMENT OF ENERGY

Federal Energy Regulatory Commission

[Docket No. IS12-302-000]

Enterprise TE Products Pipeline Company LLC; Notice of Change in Date of Settlement Conference

Take notice that the informal settlement conference that was to be convened in this proceeding on January 3, 2013, will now be convened commencing at 10:00 a.m. on January 10, 2013, at the offices of the Federal Energy Regulatory Commission, 888 First Street NE., Washington, DC 20426, for the purpose of exploring the possible settlement of the above-referenced dockets.

Any party, as defined by 18 CFR 385.102(c), or any participant as defined by 8 CFR 385.102(b), is invited to attend. Persons wishing to become a party must move to intervene and receive intervenor status pursuant to the Commission's regulations (18 CFR 385.214).

FERC conferences are accessible under section 508 of the Rehabilitation Act of 1973. For accessibility accommodations please send an email to accessibility@ferc.gov or call toll free 1-866-208-3372 (voice) or 202-502-8659 (TTY), or send a FAX to 202-208-2106 with the required accommodations.

For additional information, please contact James Keegan, james.keegan@ferc.gov, 202-502-8158 or Gary Denkinger, marc.denkinger@ferc.gov, 202-502-8662.

Dated: January 3, 2013.
Kimberly D. Bose,
Secretary.

[FR Doc. 2013-00260 Filed 1-8-13; 8:45 am]

BILLING CODE 6717-01-P